DEPARTMENT OF LABOR

Employment and Training Administration

[TA-W-71,560]

Newton Transportation Company, Inc., Hudson, NC; Notice of Termination of Investigation

Pursuant to Section 223 of the Trade Act of 1974, as amended, an investigation was initiated in response to a petition filed on July 7, 2009 by two company officials on behalf of workers of Newton Transportation Company, Inc., Hudson, North Carolina.

The petitioning group of workers is covered by an earlier petition (TA-W-71,531) filed on July 2, 2009 that is the subject of an ongoing investigation for which a determination has not yet been issued. Further investigation in this case would duplicate efforts and serve no purpose; therefore the investigation under this petition has been terminated.

Signed at Washington, DC, this 27th day of July 2009.
Richard Church,
Certifying Officer, Division of Trade Adjustment Assistance.

[FR Doc. E9-20465 Filed 8-25-09; 8:45 am]

BILLING CODE 4510-FN-P